INTERNATIONAL TRADE COMMISSION

[Investigation Nos. 701-TA-480 and 731-TA-1188 (Second Review)]

High Pressure Steel Cylinders From China; Termination of Five-Year Reviews

AGENCY: International Trade Commission.

ACTION: Notice.

SUMMARY: The Commission instituted the subject five-year reviews on November 1, 2022 to determine whether revocation of the countervailing duty order and antidumping duty order on high pressure steel cylinders from China would be likely to lead to continuation or recurrence of material injury. On January 20, 2023, the Department of Commerce published notice that it was revoking the orders effective December 5, 2022, because no domestic interested party responded to the sunset review notice of initiation by the applicable deadline. Accordingly, the subject reviews are terminated.

DATES: December 5, 2022 (effective date of revocation of the order).

FOR FURTHER INFORMATION CONTACT: Andres Andrade (202-205-2078), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: January 24, 2023.
Katherine Hiner,
Acting Secretary to the Commission.

[FR Doc. 2023-01776 Filed 1-27-23; 8:45 am]

BILLING CODE 7020-02-P